DEPARTMENT OF DEFENSE

Office of the Secretary

[Docket ID: DoD-2024-OS-0064]

Proposed Collection; Comment Request

AGENCY: Office of the Under Secretary of Defense for Research and Engineering (OUSD(R&E)), Department of Defense (DoD).

ACTION: 60-Day information collection notice.

SUMMARY: In compliance with the Paperwork Reduction Act of 1995, the Office of Strategic Capital (OSC) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 12, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DoD Loan Program Office (LPO), Office of Strategic Capital, 3030 Defense Pentagon, Washington, DC 20301-3030, ATTN: David Vidal, Office of Strategic Capital Director of Credit Programs, Tel. No.: 703-545-1903, Email: Federal.Register.Notice@osc.mil.

SUPPLEMENTARY INFORMATION:

Title; Associated Form; and OMB Number: DoD Loan Program Office Application Part 1 and Part 2; OMB Control Number 0704-OSCL.

Needs and Uses: The Department of Defense Office of Strategic Capital (OSC) was statutorily created in section 903 of the National Defense Authorization Act, 2024 (Pub. L. 118-31). Section 903(b) authorized the Secretary to establish a pilot program to make loans, issue loan guarantees, and provide technical assistance to eligible entities, as defined in the statute, that operate within defined critical technology categories. Section 8140 of the Further Consolidated Appropriations Act, 2024 appropriated funds to the OSC pilot program to make loans and issue loan guarantees. That pilot program is designated as the DoD Loan Program Office (DoD LPO). Applications for such loans and loan guarantees will be divided in two parts—a Part 1 and a Part 2. Application Part 1 will include basic information about the applicant and project management, the project or transaction for which the applicant seeks a loan, basic financial information regarding the applicant, project or transaction sources and uses of funds, and statutory eligibility criteria. Application Part 2 will go into more depth regarding the details of the project or transaction, the applicant's finances, the applicant's management and control, and any environmental issues that may apply. The information collection is necessary and will be used for DoD LPO to first, in Part 1, assess the likelihood that a prospective borrower and a prospective project or transaction meet the eligibility requirements for obtaining a direct loan or loan guarantee from DoD LPO and to prioritize the Part 1 applications to determine which applications will be invited to submit the Application Part 2. The Application Part 2 will be used to complete a detailed underwriting review of all aspects of a prospective borrower's loan application including eligibility, creditworthiness, alignment with the OSC mission, and other credit, technical and legal risks inherent in a specific project or transaction.

Affected Public: “Eligible Entities” as defined in 10 U.S.C. 149(e)(3)).

DoD LPO Application Part 1

Annual Burden Hours: 500.

Number of Respondents: 50.

Responses per Respondent: 1.

Annual Responses: 50.

Average Burden per Response: 10 hours.

DoD LPO Application Part 2

Annual Burden Hours: 350.

Number of Respondents: 10.

Responses per Respondent: 1.

Annual Responses: 10.

Average Burden per Response: 35 hours.

Total

Annual Burden Hours: 850.

Number of Respondents: 60.

Annual Responses: 60.

Frequency: On occasion.

Dated: May 30, 2024.
Aaron T. Siegel,
Alternate OSD Federal Register Liaison Officer, Department of Defense.

[FR Doc. 2024-12935 Filed 6-12-24; 8:45 am]

BILLING CODE 6001-FR-P